DEPARTMENT OF TRANSPORTATION

Federal Aviation Administration

[Summary Notice No. 2019-06]

Petition for Exemption; Summary of Petition Received; Mohd Shaikhsorab

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before April 1, 2019.

ADDRESSES: Send comments identified by docket number FAA-2019-0072 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Thea Dickerman (202) 267-2371, Office of Rulemaking, Federal Aviation Administration, 800 Independence Avenue SW, Washington, DC 20591.

This notice is published pursuant to 14 CFR 11.85.

Issued in Washington, DC, on March 1, 2019.
Lirio Liu,
Executive Director, Office of Rulemaking.

Petition for Exemption

Docket No.: FAA-2019-0072.

Petitioner: Mohd Shaikhsorab.

Section(s) of 14 CFR Affected: 61.103(a).

Description of Relief Sought: The petitioner seeks relief from 14 CFR 61.103(a) which requires that a person must be at least 17 years of age to obtain a private pilot airman certificate for a rating in other than a glider or a balloon. The petitioner indicates that he is 15 years old, and plans to attempt a world record as the first American pilot to complete all three-circumnavigation diamonds of the earth solo, and the fastest circumnavigation by a single engine aircraft. The petitioner states that, if he waits until turning 17 years old, he will not qualify for the record as the youngest pilot to circumnavigate the world.

[FR Doc. 2019-04377 Filed 3-8-19; 8:45 am]

BILLING CODE 4910-13-P